DEPARTMENT OF AGRICULTURE

Forest Service

Dry Fork Vegetative Restoration Project, Lewis and Clark National Forest, Cascade and Judith Basin Counties, MT

AGENCY: Forest Service, USDA.

ACTION: Withdrawal of Notice of Intent to prepare a Supplemental Environmental Impact Statement.

SUMMARY: The USDA Forest Service is withdrawing the Notice of Intent to prepare a Supplemental Environmental Impact Statement for the Dry Fork Vegetative Restoration project on the Belt Creek Ranger District of the Lewis and Clark National Forest. A Notice of Intent to prepare a Supplemental Environmental Impact Statement was published in the Federal Register on October 27, 2005 (pages 60274-60275).

Dated: August 27, 2008.
Lesley W. Thompson,
Forest Supervisor.

[FR Doc. E8-20746 Filed 9-8-08; 8:45 am]

BILLING CODE 3410-11-M